DEPARTMENT OF LABOR

Employment and Training Administration

Grants for Workforce Investment Boards

AGENCY: Employment and Training Administration, Department of Labor.

ACTION: Notice of availability of funds and solicitation for grant applications (SGA/DFA 04-103).

Catalog of Federal Assistance No.: 17.257.

SUMMARY: This notice contains all of the necessary information and forms needed to apply for grant funding. The U.S. Department of Labor (USDOL), Employment and Training Administration (ETA), announces the availability up to $5.5 million for grants to eligible Workforce Investment Boards (WIBs) that have demonstrated successfully the ability to form working partnerships with grassroots faith-based and community organizations (FBCOs).

This grant will build upon successful ETA grants from program years (PY) 2001 and 2002 that focused on the use of intermediaries to build partnerships between FBCOs and local One-Stop systems. The WIB will develop and implement an 18 month project to encourage the formation of long-term partnerships with FBCOs that meet an unmet community need related to hard-to-serve populations, ex-offender re-integration, and employment and welfare-to-work.

This investment supports and complements the President's High-Growth Job Training Initiative. The foundation of this initiative is the creation of partnerships to work collaboratively in the development of solutions to the human resource challenges facing our growth industries while developing maximum access for American workers to gain the competencies they need to obtain good jobs. These partnerships include the public workforce system, business and industry, education and training providers and economic development principals; this solicitation is designed to also extend the partnership invitation to FBCOs through the direct involvement of our nation's Workforce Investment Boards.

This grant also complements ETA's ongoing sectoral employment research and evaluations—i.e., identifying workforce needs and opportunities within a local or regional industry or cross-industry occupational group while retaining a focus on economic performance and competitiveness. FBCOs can discharge a significant community role in assisting Boards by bringing new entrants to the job market who can be trained and equipped to meet emerging and evolving industry needs. Each applicant Board will identify up to three businesses or industry sectors to collaborate with the Board and FBCOs within the local One-Stop system to provide jobs for qualified employees from the identified geographic areas.

DATES: Applications will be accepted commencing on April 6, 2004. The closing date for receipt of applications under this announcement is May 6, 2004. May 6, 2004. Applications must be received by 4 p.m. (ET) at the address below: No exceptions to the mailing and hand-delivery conditions set forth in this notice will be granted. Applications that do not meet the conditions set forth in this notice will not be honored. Telefacsimile (FAX) applications will not be honored.

SUPPLEMENTARY INFORMATION:

I. Funding Opportunity Description

A. Overview of ETA and CFBCI Initiatives

DOL CFBCI works to remove administrative and regulatory barriers that would prevent faith-based and community organizations from competing equally for federal dollars. In addition, CFBCI develop innovative programs to foster partnerships between DOL-funded programs and faith-based and community organizations (FBCOs). CFBCI educate organizations about local opportunities to collaborate with the workforce development system and about opportunities to participate in national grant programs. CFBCI also work with local government officials and administrators to integrate faith-based and community organizations into the strategic planning and service delivery processes of local Workforce Investment Boards.

Since 2001, CFBCI has worked with ETA to provide $22.1 million in grants to assist states, intermediary organizations and grassroots groups in creating partnerships between FBCOs and the One-Stop Career Center System. In addition to grants, CFBCI has undertaken technical assistance activities that are designed to help FBCOs access and partner with the $15 billion state and local workforce development system. Begun in Memphis, Tennessee, and Milwaukee, Wisconsin, the Touching Lives and Communities Pilot Program provided in-depth technical assistance to local alliances of FBCOs, elected officials and workforce development boards to remove barriers and foster partnerships at the local level. The report on this effort, Experiences from the Field: Fostering Workforce Development Partnerships with Faith-Based and Community Organizations, serves as the basis for a new nation-wide effort to encourage partnerships between FBCOs and Workforce Investment Boards called the Touching Lives and Communities Technical Assistance Program (TLC-TAP). Additionally, CFBCI produced Bridging the Gap: Meeting the Challenges of Universal Access Through Faith-Based and Community Partnerships, which highlights strategies by 2002 State and Intermediary grantees to help job seekers access services through grassroots faith-based and community organizations. CFBCI also has created Empowering New Partnerships: Faith-Based and Community Initiatives in the Workforce System, which provides an overview of basic strategies for engaging grassroots organizations in the workforce system.

Through TLC-TAP, the CFBCI and ETA are creating a peer-to-peer learning network, publishing tool kits and other resource materials and hosting national conference calls on topics related to the initiative. For more resources, please visit the CFBCI Web site, http://www.dol.gov/cfbci as well as the TLC-TAP Web site, http://www.nawb.org/fbci.

B. Project Objectives

The Grantee(s) will implement, in partnership with USDOL, a project designed to meet the following objectives:

• Create new sustainable, financial and non-financial relationships with grassroots FBCOs and other partners that help individuals in targeted area transition to industries/careers that are growing locally and can offer strong career opportunities. Local intermediary organizations can be effective partners in building FBCO collaboratives when they have preexisting relationships with grassroots organizations.

• Identify specific census tract(s) (neighborhoods) with high unemployment rates and current and potential FBCO resources in those neighborhoods (resource map) to help hard-to-serve individuals prepare for and sustain employment. For example, the WIB may look for areas designated as Enterprise Communities or Empowerment Zones.

• Obtain commitments from up to three businesses or business sectors to collaborate with the local Board, One-Stop system, and FBCOs to provide a number of jobs with long-term career opportunities and hire qualified employees from the identified disadvantaged neighborhoods. Businesses may include corporations or small-medium sized businesses, that are independently owned and operated and not dominant in their field of operation.

• Increase the capacity of the grassroots organizations to provide services and manage government grant dollars.

• Establish mechanisms to document the number of individuals from the identified high unemployment area(s) who are currently being served by One-Stop and demonstrate how this grant will increase the number of individuals using services and becoming employed.

Through this grant investment of $5.5 million, the Department intends to help approximately 2,000 people obtain or advance in employment.

C. Anticipated Announcement and Award Dates

Announcement of this award is expected to occur by June 30, 2004.

D. Funding Availability and Period of Performance

ETA has identified $5.5 million from the FY 2004 appropriation for One Stop/America's Labor Market Information System. ETA expects to award approximately 10 to 20 grants based on the rating of applications and other factors, which may include urban/rural and geographical balance. The grant amount for each WIB is expected to range between $300,000-$500,000. The period of performance will be approximately 18 months from the date of execution by the Department. The grant funds will be available for expenditure until June 30, 2006.

II. Eligibility Information

A. Eligible Applicants

Workforce Investment Boards (WIB) from all geographic areas are eligible to apply for these funds including:

• The state Workforce Investment Board;

• A local Workforce Investment Board; or

• Consortia of local (including rural) Workforce Investment Boards.

The WIB is expected to issue substantial subawards to eligible grassroots organizations. For purposes of this announcement, eligible grassroots organizations must be non-profits which:

• Have social services as a major part of their mission;

• Are headquartered in the local community to which they provide these services;

• (a) Have a annual social services budget of $350,000 or less, or (b) have 6 or fewer full-time equivalent employees.

The WIB may choose also to contract with a non-profit intermediary or hire staff members from the targeted community who will be able to help the WIB conduct outreach to grassroots organizations and provide technical assistance to the sub-awardees. However, a majority of the funds should be used for sub-awarding directly to the grassroots organizations.

Neutral, non-religious criteria that neither favor nor disfavor religion will be employed in the selection of grant recipients and must be employed by grantees or in the selection of sub-recipients.

Additionally, the government is prohibited from providing direct financial assistance for inherently religious activity*. Therefore, as a general rule, subawards may not be used for religious instruction, worship, prayer, proselytizing or other inherently religious activities and participation in such activities must be voluntary. (If, however, an organization receives financial assistance as a result of the choice of a beneficiary, such as through a voucher, the organization may integrate religion throughout its program.

*In this context, the term financial assistance that is provided directly by a government entity or an intermediate organization, as opposed to financial assistance that an organization receives as the result of the genuine and independent private choice of a beneficiary. In other contexts, the term “direct” financial assistance may be used to refer to financial assistance that an organization receives directly from the Federal government (also known as “discretionary” assistance), as opposed to assistance that it receives from a State or Local government (also known as “indirect” or “block” grant assistance). The term “direct” has the former meaning throughout this SGA.

Veterans Priority: In addition, this program is subject to the provisions of the “Jobs for Veterans Act”, Pub. L. 107-288, which provides priority of services to veterans and certain of their spouses in all Department of Labor funded job training programs. Please note that, to obtain priority of service, a veteran or spouse must meet the program's eligibility requirements. Comprehensive policy guidance is being developed and will be issued in the near future.

III. Application and Submission Information

DATES: Applications will be accepted commencing on April 6, 2004. The closing date for receipt of applications under this announcement is May 6, 2004. Applications must be received by 4 p.m. (ET) at the address below: No exceptions to the mailing and hand-delivery conditions set forth in this notice will be granted. Applications that do not meet the conditions set forth in this notice will not be honored. Telefacsimile (FAX) applications will not be honored.

ADDRESSES: Applications must be mailed to the U.S. Department of Labor, Employment and Training Administration, Division of Federal Assistance, Attention: James Stockton, SGA/DFA 04-103, 200 Constitution Avenue, NW., Room S-4220, Washington, DC 20210. Telefacsimile (FAX) applications will not be accepted. Applicants are advised that mail in the Washington area may be delayed due to mail decontamination procedures.

FOR FURTHER INFORMATION CONTACT: James Stockton, Grants Officer, Division of Federal Assistance, Telephone (202) 693-3301 (this is not a toll free-number). You must specifically ask for James Stockton. Questions can also be faxed to James Stockton, at (202) 693-2879, please include the SGA/DFA 04-103, a contact name, fax and phone numbers. This announcement will be also published on the Employment and Training Administration (ETA) Web page at http://www.doleta.gov/usworkforce. This Web page will also provide responses to questions that are raised by applicants during the period of grant application preparation. Award notifications will also be announced on this Web page.

SUPPLEMENTARY INFORMATION: These grants are made under the following authorities:

• The Workforce Investment Act of 1998 (WIA or the Act) (Pub. L. 105-220, 29 U.S.C. 2801 et seq.).

• The WIA Final Rule, 20 CFR parts 652, 660-671 (65 FR 49294 (August 11, 2000);

• Executive Order 13198; “Rallying the Armies of Compassion”

• Training and Employment Guidance Letter 17-01 (“Incorporating and Utilizing Grassroots, Community-Based Organizations Including Faith-Based Organizations in Workforce Investment Activities and Programs”)

• Executive Order 13279; “Equal Protection of the Laws for Faith-Based and Community Organizations”

Mailing and Handling Conditions

1. Late Applications. Any application received after the exact date and time specified for receipt at the office designated in this notice will not be considered, unless it is received before awards are made and it:

• Was sent by U.S. Postal Service registered or certified mail not later than May 6, 2004; or

• Was sent by U.S. Postal Service Express Mail Next Day Service, Post Office to addressee, not later than 4 p.m. at the place of mailing two working days before May 6, 2004. The term “working days” excludes weekends and U.S. Federal holidays. “Post-marked” means a printed, stamped or otherwise placed impression (exclusive of a postage meter machine impression) that is readily identifiable, without further action, as having been supplied or affixed on the date of mailing by an employee of the U.S. Postal Service.

2. Withdrawal of Applications. Applications may be withdrawn by written notice or telegram (including mailgram) received at any time before an award is made. Applications may be withdrawn in person by the applicant or by an authorized representative thereof, if the representative's identify is made known and the representative signs a receipt for the proposal.

3. Hand Delivered Proposals. It is preferred that applications be mailed at least five days before the closing date. To be considered for funding, hand-delivered applications must be received at the designated address by 4:00 p.m., (ET) May 6, 2004. All overnight mail will be considered to be hand delivered and MUST BE RECEIVED at the designated place by the specified closing date and time. Telegraphed, e-mailed and/or faxed proposals will not be honored. Failure to adhere to the above instructions will be a basis for determination of non-responsive.

Submission of Applications

Applicants must submit one copy with an original signature and two additional copies of their proposal. The Statement of Work must be limited to 5 pages. The only attachments permitted will be agreements with or letters of support from local Workforce Investment Boards and/or local One-Stop operators. The application must be double-spaced, and on single-sided, numbered pages. A font size of at least twelve (12) pitch is required with one-inch margins (top, bottom and sides.)

1. Required Contents

There are three required sections:

• Section I—Application for Federal Assistance (SF 424A)

• Section II—Budget Information (SF 424B)

• Section III—Technical Proposal—Statement of Work

Section I—Application for Federal Assistance

The SF-424A is included in the announcement as Attachment A. It must be signed by a representative authorized by the governing body of the applicant to enter into grant agreement.

Section II—Budget Information

The SF-424B is included in the announcement as Attachment B.

Note: Except as specifically provided, DOL/ETA acceptance of a proposal and an award of federal funds to sponsor any program(s) does not provide a waiver of any grant requirement and/or procedures. For example, the OMB circulars require that an entity's procurement procedures must require that all procurement transactions must be conducted, as practical, to provide open and free competition. If a proposal identifies a specific entity to provide the services, the DOL/ETA's award does not provide the justification or basis to sole-source the procurement, i.e., avoid competition.

Section III. Technical Proposal (Statement of Work)

The Department of Labor will screen all applications to determine whether required elements are present and clearly identifiable.

1. Technical Approach (Description of the proposed plan and activities of WIB and its sub-grantees)—40 Points

This section of the narrative provides the applicant's strategy for creating new sustainable, financial and non-financial relationships with grassroots, FBCOs and other partners that help individuals in targeted area transition to industries/careers that are growing locally and can offer strong career opportunities. This section of the narrative should describe fully the specific needs in the population in the targeted area that the WIB and grassroots organization partnerships will address. This population may include: low-income working individuals, individuals transitioning from public assistance, individuals with disabilities, ex-offenders, individuals with Limited English Proficiency, and other hard-to-serve populations.

The Department expects that the WIB will subaward grants for services to grassroots faith-based and community organizations and may work with non-profit intermediary organizations or hire staff who have strong relationships with grassroots faith-based and community organizations.

The proposal's narrative should include the following:

• Describe strategy for resource mapping (documenting existing and potential FBCO programs and services in the identified neighborhood(s) that help hard-to-serve individuals prepare for and sustain employment). Include plans for outreach to those organizations that can help the WIB address the identified community need(s). If applicable include how your WIB will work with intermediary organizations that have existing networks of grassroots organizations.

• Identify up to three businesses or business sectors to collaborate with the WIB, One-Stop System, FBCOs and other partners to provide jobs with long-term career opportunities that will hire qualified employees from the identified disadvantaged census tract(s). The proposal should include letters of commitment from those businesses as attachments. Businesses may include corporations or small-medium sized businesses, which are independently owned and operated and not dominant in their field of operation.

• Describe what resources and services the WIB will solicit from sub-grantees. Resources and services can include life skills, mentoring, adult literacy, employability skill training and customized training. Describe the methodology for competitively selecting sub-recipients. Describe how the FBCO will be used as a strategy for training individuals for the specified businesses/occupations. If you have already done so, include a description of the FBCO resources and describe how existing One-Stop resources will be used to help individuals prepare for, sustain and advance in employment. Please include the estimated percent of funding that will be subawarded to grassroots organizations.

• Describe technical assistance the WIB will provide to all potential sub-grantees in the targeted area(s) before and after grant award. This should include a description of activities to help FBCOs apply for a sub-grant award and activities to help the FBCOs understand guidelines for using with Federal dollars and implement programs. If applicable, WIBs should describe how they would use intermediary organizations or specific staff to conduct the technical assistance.

• Describe how the WIB will develop/facilitate non-financial relationships and resource sharing with grassroots non-profit organizations in the targeted area that did not receive financial subawards.

• Describe the activities the applicant will undertake to build the administrative capacity of the sub-grantees.

• Document, to the extent possible, the number of individuals from the identified census tract(s) who are currently being served by the One-Stop system. Describe how the grant will increase the number of individuals using services and becoming employed. Describe methodology for documenting how many individuals have been served, become employed and sustain employment during the life of the grant. The proposal should include the number of individuals the WIB plans to see through to employment.

• Submit a letter of endorsement from the State workforce agency and from an elected official who has appointment authority for the WIB.

• Submit a timeline for the tasks and activities beginning July 1, 2004.

Rating Criteria

• The unmet community need(s) and identified census tract(s) have been well documented and substantiated.

• The approaches and strategies for engaging FBCOs to increase employment opportunities for the target population will effectively maximize resources and significantly affect the targeted community.

• The businesses engaged through this grant will provide clear career ladders for the individuals served.

• The activities associated with outreach and identification of FBCOs and other partners eligible for sub-grant awards appear appropriate, reasonable and achievable within the first months of the grant period.

• The defined set of inter-relationships among the WIB, FBCOs, other partners and the local One-Stop delivery system during the life of the grant suggest that the grant objectives will be successfully met.

• The number of individuals the WIB plans to serve seems appropriate, ambitious and achievable within the grant period and represents an effective use of this financial investment. The narrative describes how the WIB's efforts will contribute to the overall goal of helping 2,000 individuals obtain or advance in employment through this investment.

2. Past Performance—20 Points

This section of the narrative describes how the WIB has demonstrated successfully in the past the ability to form working partnerships with FBCOs and other partners. The narrative should include the following.

• Define the structure of the WIB. Narratives should include a description of who is represented on the workforce board, specifically noting what types of FBCOs are represented.

• Describe any current relationships, formal (through MOUs) and informal, with FBCOs. Describe interactions with FBCOs both in terms of financial (training and placement) and non-financial (shared spaces and referrals).

• Relevant history of the WIB in working with small organizations. Include past experience in developing technical assistance and developing other organizations' capacity for social service delivery, competing for grants, managing grants, and conducting information campaigns.

• Recent history of the WIB in working with other community resources like TANF, private foundations, etc., as partners in delivering service.

• Please identify any current barriers that exist that have prevented financial partnerships and non-financial partnership between grassroots faith-based and community organizations in targeted area and the One-Stop system or the Workforce Investment Board. Please describe what actions will be taken to address or remove those barriers in order to allow for sustainable partnerships. In the program plan, describe the strategy for including FBCOs in leadership and strategic planning roles in the WIB. Also, describe the role the Workforce Board staff, One-Stop administrator and staff will have in developing and discharging the plan.

• Recent history of the WIB in working with specific businesses or business sectors to provide employment for qualified individuals.

Rating Criteria

The Department will evaluate this narrative based on the scope, strength, and “record of achievement,” and the WIB s commitment to addressing the barriers to partnership with FBCOs.

3. Sustainability (10 Points)

The narrative should describe how the WIB will address issues of sustainability past the life of the DOL grant.

• Describe how the project will be integrated with other WIB inititatives.

• Describe how the WIBs will demonstrate plans for sustainability after the DOL funding ends. Description can include commitments of other resources either within the WIB (i.e., through WIB staff committed to the project, in kind, outreach, training dollars committed, surplus computers donated, etc.) or through an outside source (i.e. private partners, foundation, etc).

• Describe efforts, if any, to encourage the leveraging of state discretionary funds to support the project.

Rating Criteria

• The Department will evaluate this narrative based on the strength and level of current commitments.

4. Evaluation (Description of evaluation criteria, measure(s), outcomes and reporting/tracking mechanisms for both WIB and sub-grantees)—30 Points

The narrative should define specifically how the WIB will determine the grant's success based on USDOL guidelines. The narrative should include how the WIB plans to contribute proportionately to the broad goals of the grant investment of helping 2000 individuals obtain or advance employment. The narrative should include the following.

• Define the measurable outcomes and other goals for both the WIB and its sub-recipients in executing the proposed tasks and activities. In addition to any goals the WIB defines, the WIB should include goals for how many individuals will enter employment, percent of retention over a defined period of time defined by the WIB, and increase in wages (advance in employment) through this grant investment. WIB is free to develop additional goals for the increase in literacy and numeracy or entrance into higher education or attainment of GED or educational or training certificate.

• Describe the methodology for how the WIB will support the subawardees to track and report outcomes for those assisted under the sub-awards and what responsibilities for tracking will be shared by the One-Stop Career Centers.

• Define how the WIB will determine its overall success in improving the posture of the sub-recipients in increasing their administrative capacity to remain active in local workforce development and compete for future funding opportunities.

Rating Criteria

• Are the goals and objectives, and the plans and procedures for achieving them, innovative, worthwhile, achievable and measurable?

• Are the methods and activities to achieve the objectives adequately described?

Section IV. Reporting Requirements

The grantee is required to provide the reports and documents listed below:

Quarterly Financial Reports. A Quarterly Financial Status Report (SF-269) is required until such time as all funds have been expended or the period of availability has expired. Quarterly reports are due 30 days after the end of each calendar year quarter. Grantee must use ETA's On-line Electronic Reporting System.

Progress Reports. The grantee must submit a quarterly financial and narrative progress report to the Federal Project Officer within 30 days following each quarter. Two copies are to be submitted providing a detailed account of activities undertaken during that quarter.

Section V. Review Process and Evaluation Criteria

A technical review panel will make careful evaluation of applications against the rating criteria. The review panel recommendations are advisory. The ETA Grants Officer will fully consider the panel recommendations and take into account geographic balance to ensure the most advantageous award of these funds to accomplish the system-building purposes outlined in the Summary and Statement of work. The grants officer may consider any information that comes to his or her attention. The grants officer reserves the right to award without negotiation.

Section VI. Resources for the Applicant

The Department of Labor maintains a number of Web-based resources that may be of assistance to applicants. The Web page for the Department's Center for Faith-Based & Community Initiatives (http://www.dol.gov/cfbci) is a valuable source of background on this initiative. Training and Employment Notice (T.E.N.) 15-03 (http://wdr.doleta.gov/directive/attach/TEN15-03.html) includes information about promising practices for engaging faith-based and community organizations in the workforce system based on successful grantees from PY 2002. America's Service Locator (http://www.servicelocator.org) provides a directory of our nation's One-Stop Career Centers. The National Association of Workforce Boards maintains a Web page (http://www.nawb.org/asp/wibdir.asp) which contains contact information for the State and local Workforce Investment boards. Applicants are encouraged to review “Understanding the Department of Labor Solicitation for Grant Applications and How To Write an Effective Proposal” (http://www/dol.gov/cfbci/sgabrochure.html). “Questions and Answers” regarding this solicitation will be posted and updated on the Web (http://www.doleta.gov/usworkforce. For a basic understanding of the grants process and basic responsibilities of receiving Federal grant support, please see “Guidance for Faith-Based and Community Organizations on Partnering with the Federal Government (http://www.fbci.gov).

Signed at Washington, DC, this 31st day of March, 2004.
James W. Stockton,
Grant Officer.

Attachments

1. SF-424A—Application for Federal Assistance

2. Budget Form

3. Status and Technical Report Formats

4. Survey on Ensuring Equal Opportunity for Applicants

BILLING CODE 4510-30-P

[FR Doc. 04-7659 Filed 4-5-04; 8:45 am]

BILLING CODE 4510-30-C